SMALL BUSINESS ADMINISTRATION

13 CFR Part 121

Small Business Size Standards; Waiver of the Nonmanufacturer Rule

AGENCY: U.S. Small Business Administration.

ACTION: Notice of intent to terminate waiver of the Nonmanufactuer Rule for Ammunition (Except Small Arms) Manufacturing.

SUMMARY: The U.S. Small Business Administration (SBA) intends to terminate the waivers of the Nonmanufacturer Rule for Ammunition (Except Small Arms) Manufacturing based on our recent discovery of small business manufacturers for these classes of products. Terminating these waivers will require recipients of contracts set aside for small or 8(a) businesses to provide the products of small business manufacturers or processor on such contracts.

DATES: Comments must be received on or before November 7, 2003.

ADDRESSES: Edith Butler, Program Analyst, U.S. Small Business Administration, 409 3rd Street, SW., Washington, DC 20416, Tel: (202) 619-0422.

FOR FURTHER INFORMATION CONTACT: Edith Butler, Program Analyst, (202) 619-0422 FAX (202) 205-7280.

SUPPLEMENTARY INFORMATION: Public Law 100-656, enacted on November 15, 1988, incorporated into the Small Business Act the previously existing regulation that recipients of Federal contracts set aside for small businesses or SBA's 8(a) Program must provide the product of a small business manufacturer or processor, if the recipient is other than the actual manufacturer or processor. This requirement is commonly referred to as the Nonmanufacturer Rule. The SBA regulations imposing this requirement are found at 13 CFR 121.406(b). Section 303(h) of the law provides for waiver of this requirement by SBA for any “class of products” for which there are no small business manufacturers or processors in the Federal market.

To be considered available to participate in the Federal market on these classes of products, a small business manufacturer must have submitted a proposal for a contract solicitation or received a contract from the Federal government within the last 24 months. The SBA defines “class of products” based on a six digit North American Industry Classification System (NAICS) and the four digit Product and Service Code established by the Federal Procurement Data System.

SBA announced its decision to grant the waiver of Ammunition (Except Small Arms) Manufacturing, in the Federal Register on September 29, 2003. It was recently brought to SBA's attention by small business manufacturers and SBA's Procurement Center Representatives that small business manufacturers exist for items within this class of products. For this reason, SBA intends to terminate the waiver for Ammunition (Except Small Arms) Manufacturing, North American Industry Classification System (NAICS) 332993.

Based on the above information, this notice proposes to terminate the class waivers of the Nonmanufacturer Rule for Ammunition (Except Small Arms) Manufacturing, NAICS 332993.

The public is invited to comment to SBA on the proposed termination of the waivers of the nonmanufacturer rule for the class of products specified. All comments by the public will be duly considered by SBA in determining whether to finalize its intent to terminate these classes of products.

Dated: October 22, 2003.
Linda G. Williams,
Associate Administrator for Government Contracting.

[FR Doc. 03-27200 Filed 10-28-03; 8:45 am]

BILLING CODE 8025-01-P